NUCLEAR REGULATORY COMMISSION

[Docket No. 50-346]

FirstEnergy Nuclear Operating Company and FirstEnergy Nuclear Generation Corp.; Notice of Withdrawal of Application for Amendment to Facility Operating License

The U.S. Nuclear Regulatory Commission (the Commission) has granted the request of FirstEnergy Nuclear Operating Company and FirstEnergy Nuclear Generation Corp. (the licensees) to withdraw its January 5, 2005, application for proposed amendment to Facility Operating License No. NPF-3 for the Davis-Besse Nuclear Power Station, Unit 1, located in Ottawa County.

The proposed amendment would have revised Technical Specification (TS) 3/4.3.2.1, “Safety Features Actuation System [SFAS] Instrumentation,” to permit a single inoperable SFAS functional unit to be placed in a bypassed condition indefinitely.

The Commission had previously issued a Notice of Consideration of Issuance of Amendment published in the Federal Register on February 15, 2005 (70 FR 7765). However, in response to answering the NRC staff's request for additional information (RAI) dated November 23, 2005, the licensees conducted a preliminary risk evaluation and determined that a full risk evaluation was too resource intensive and may not yield acceptable results. As a result, the licensees did not submit a formal response to the RAI. Subsequently, by letter dated April 21, 2006, the licensees withdrew the proposed change.

For further details with respect to this action, see the application for amendment dated January 5, 2005, and the licensees' letter dated April 21, 2006, which withdrew the application for license amendment. Documents may be examined, and/or copied for a fee, at the NRC's Public Document Room (PDR), located at One White Flint North, Public File Area O1 F21, 11555 Rockville Pike (first floor), Rockville, Maryland. Publicly available records will be accessible electronically from the Agencywide Documents Access and Management Systems (ADAMS) Public Electronic Reading Room on the internet at the NRC Web site, http://www.nrc.gov/reading-rm.html. Persons who do not have access to ADAMS or who encounter problems in accessing the documents located in ADAMS should contact the NRC PDR Reference staff by telephone at 1-800-397-4209, or 301-415-4737 or by e-mail to pdr@nrc.gov.

Dated at Rockville, Maryland, this 19th day of May 2006.
For the Nuclear Regulatory Commission.
Stephen J. Campbell,
Project Manager, Plant Licensing Branch III-2, Division of Operating Reactor Licensing, Office of Nuclear Reactor Regulation.

[FR Doc. E6-8705 Filed 6-5-06; 8:45 am]

BILLING CODE 7590-01-P